DEPARTMENT OF DEFENSE

Department of the Navy

[Docket ID: USN-2016-HQ-0004]

Proposed Collection; Comment Request

AGENCY: Department for Deployment Health, Naval Health Research Center, DON.

ACTION: 60-day information collection notice.

SUMMARY: In compliance with the Paperwork Reduction Act of 1995, the Department for Deployment Health, Naval Health Research Center announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 16, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24 Suite 08D09B, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Naval Health Research Center, DoD Center for Deployment Health Research, Department 164, ATTN: Millennium Cohort Program Principal Investigators, 140 Sylvester Rd., San Diego, CA, 92106-3521, or call (619) 553-7335.

SUPPLEMENTARY INFORMATION: Title; Associated Form; and OMB Number: Prospective Department of Defense Studies of US Military Forces: The Millennium Cohort Study; OMB Control Number 0703-0064.

Needs and Uses: The information collection requirement is necessary to respond to recommendations by Congress and by the Institute of Medicine to perform investigations that systematically collect population-based demographic and health data so as to track and evaluate the health of military personnel throughout the course of their careers and after leaving military service. The Millennium Cohort Family Study also evaluates the impact of military life on military families.

Affected Public: Individuals or households.

Annual Burden Hours: 100,764.

Number of Respondents: 134,352.

Responses per Respondent: 1.

Average Burden per Response: 45 minutes.

Frequency: On occasion.

Persons eligible to respond to this survey are those civilians now separated from military service who initially enrolled, gave consent and participated in the Millennium Cohort Study while on active duty in the Army, Navy, Air Force, Marine Corps, or US Coast Guard during the first, second, third, or fourth panel enrollment periods in 2001-2003, 2004-2006, 2007-2008, or 2011-2012 respectively, as well as those civilians that choose to participate in the Millennium Cohort Family Study.

Dated: February 9, 2018.
Aaron Siegel,
Alternate OSD Federal Register Liaison Officer, Department of Defense.

[FR Doc. 2018-03062 Filed 2-13-18; 8:45 am]

BILLING CODE 5001-06-P